ENVIRONMENTAL PROTECTION AGENCY

40 CFR Part 62

[R06-OAR-2005-OK-0004; FRL-7979-6]

Approval and Promulgation of State Plans for Designated Facilities and Pollutants: Oklahoma; Plan for Controlling Emissions From Commercial and Industrial Solid Waste Incineration Units

AGENCY: Environmental Protection Agency (EPA).

ACTION: Proposed rule.

SUMMARY: EPA is proposing to approve the “State Plan” submitted by the state of Oklahoma on June 29, 2005, to fulfill the requirement of sections 111(d)/129 of the Clean Air Act for commercial and industrial solid waste incineration (CISWI) units. Specifically, the State Plan that EPA is proposing to approve, establishes emission limits for organics, carbon monoxide, metals, acid gases and particulate matter and compliance schedules for the existing CISWI units located in Oklahoma which will reduce the designated pollutants. The State Plan establishes monitoring, operating, and recordkeeping requirements for commercial and industrial solid waste incinerator (CISWI) units for which construction commenced on or before November 30, 1999. In the “Rules and Regulations” section of this Federal Register, EPA is approving Oklahoma's State Plan submittal, as a direct final rule without prior proposal because the Agency views this as a noncontroversial submittal and anticipates no adverse comments. A detailed rationale for the approval is set forth in the direct final rule. If EPA receives no adverse comments, EPA will not take further action on this proposed rule. If EPA receives adverse comments, EPA will withdraw the direct final rule and it will not take effect. EPA will address all public comments in a subsequent final rule based on this proposed rule. The EPA will not institute a second comment period on this action. Any parties interested in commenting on this action should do so at this time.

DATES: Written comments must be received by November 3, 2005.

ADDRESSES: Comments may be mailed to Mr. Thomas Diggs, Chief, Air Planning Section (6PD-L), Environmental Protection Agency, 1445 Ross Avenue, Suite 1200, Dallas, Texas 75202-2733. Comments may be submitted electronically, by mail, by facsimile, or through hand delivery/courier by following the detailed instructions provided under the “Public Participation” heading in the Supplemental Information section of direct final rule located in the “Rules and Regulations” section of this Federal Register.

FOR FURTHER INFORMATION CONTACT: Mr. Kenneth W. Boyce, Air Planning Section, Environmental Protection Agency, Region 6, 1445 Ross Avenue, Suite 700, Dallas, Texas 75202-2833, at (214) 665-7259 or boyce.kenneth@epa.gov.

SUPPLEMENTARY INFORMATION: In the “Rules and Regulations” section of this Federal Register, EPA is approving Oklahoma's sections 111(d)/129 State Plan as a direct final rule without prior proposal because EPA views this as a noncontroversial submittal and anticipates no adverse comment. The EPA has explained its reasons for this approval in the preamble to the direct final rule. A detailed rationale for the approval is set forth in the direct final rule. If no adverse comments are received in response to this action rule, no further activity is contemplated. If EPA receives no relevant adverse comment, EPA will not take further action on this proposed rule. If EPA receives relevant adverse comments, the direct final rule will be withdrawn and all public comments received will be addressed in a subsequent final rule based on this proposed rule. EPA will not institute a second comment period. Any parties interested in commenting must do so at this time. Please note that if EPA receives adverse comment on an amendment, paragraph, or section of this rule and if that provision may be severed from the remainder of the rule, EPA may adopt as final those provisions of the rule that are not the subject of an adverse comment.

For additional information, see the direct final rule located in the “Rules and Regulations” section of this Federal Register.

Dated: September 19, 2005.
Lawrence E. Starfield,
Acting Regional Administrator, Region 6.

[FR Doc. 05-19837 Filed 10-3-05; 8:45 am]

BILLING CODE 6560-50-P